DEPARTMENT OF DEFENSE

Department of the Army; Corps of Engineers

Intent To Convey the “Drum Stick” Parcel of the Former Fort Ord, Located in Monterey County, CA in Return for the “Stillwell Kidney” Parcel Owned by the City of Seaside

AGENCY: Department of the Army, U.S. Army, U.S. Army Corps of Engineers, DoD.

ACTION: Notice of intent.

SUMMARY: Pursuant to 10 U.S.C. 2869(d)(1) the Department of the Army (Army) is providing notice of its intent to convey the “Drum Stick” parcel of the former Fort Ord, located in Monterey County, CA in return for the “Stillwell Kidney” parcel owned by the City of Seaside. Fort Ord was selected for closure by the Base Realignment and Closure Commission in 1991. The Drum Stick parcel is an undeveloped, densely-vegetated 11.28-acre property adjacent to California State Route 1 on the former Fort Ord. the Stillwell Kidney parcel currently contains approximately 400 abandoned housing units. Under 10 U.S.C. 2869, the Army is authorized to enter into an agreement to convey real property, including any improvements thereon, located on a military installation that is closed or realigned under a Base Realignment and Closure (BRAC) Act to any person who agrees to convey to the Army real property of at least equal value. The Army has concluded that the Stillwell Kidney parcel has a fair market value that is at least equal to that of the Drum Stick parcel.

ADDRESSES: U.S. Army Corps of Engineers, Norfolk District, ATTN: CENAO-CO, 803 Front Street, Norfolk, VA 23510-1096.

FOR FURTHER INFORMATION CONTACT: Todd Waldman, Esquire, (757) 201-7202.

Dated: September 21, 2006.
Joseph R. Loschi,
District Counsel.

[FR Doc. 06-8357 Filed 9-28-06; 8:45 am]

BILLING CODE 3710-EN-M